DEPARTMENT OF VETERANS AFFAIRS

Clinical Science Research and Development Service Cooperative Studies Scientific Merit Review Board; Notice of Meeting

The Department of Veterans Affairs (VA) gives notice under Public Law 92-463 (Federal Advisory Committee Act) that a meeting of the Clinical Science Research and Development Service, Cooperative Studies Scientific Merit Review Board will be held on May 11-12, 2005, at the Holiday Inn, 8777 Georgia Avenue, Silver Spring, MD. Sessions are scheduled to begin at 8 a.m. and end at 3 p.m. each day.

The Board advises the Chief Research and Development Officer through the Director of the Clinical Science Research and Development Service on the policies and program planning for multi-site clinical science projects, ensuring that new and ongoing projects maintain high quality, are based on scientific merit, and are efficiently and economically conducted. In carrying out these responsibilities, the Board makes recommendations on the relevance and feasibility of research proposals, the adequacy of protocols involved, and the scientific validity and propriety of technical details, including protection of human subjects.

The meeting will be open to the public for the May 11 and May 12 sessions, from 8 a.m. to 8:30 a.m., for the discussion of administrative matters and the general status of the program. On May 11 and May 12 from 8:30 a.m. to 3 p.m., the meeting will be closed for the Board's review of research and development applications.

Closing the meeting is in accordance with provisions set forth in section 10(d) of Public Law 92-463, as amended by sections 5(c) of Public Law 94-409, and 5 U.S.C. 552b(c)(6) and (c)(9). During the closed sessions of the meeting, discussions and recommendations will deal with qualifications of personnel conducting the studies, staff and consultant critiques of research proposals and similar documents, and the medical records of patients who are study subjects, the disclosure of which would constitute a clearly unwarranted invasion of personal privacy.

Those who plan to attend should contact Dr. Grant Huang, Assistant Director, Cooperative Studies Program (125), Department of Veterans Affairs, 810 Vermont Avenue, NW., Washington, DC 20420, at (202) 254-0192.

Dated: April 6, 2005.
By Director of the Secretary.
E. Philip Riggin,
Committee Management Officer.

[FR Doc. 05-7610 Filed 4-17-05; 8:45 am]

BILLING CODE 8320-01-M